Title 3—

The President

Proclamation 7984 of February 27, 2006

Establishment of the African Burial Ground National Monument

By the President of the United States of America

A Proclamation

In Lower Manhattan, at the corners of Duane and Elk Streets, lies an undeveloped parcel of approximately 15,000 square feet that constitutes a remaining portion of New York City's early African Burial Ground. The site is part of an approximately 7-acre National Historic Landmark established on April 19, 1993. From the 1690s to the 1790s, the African Burial Ground served as the final resting place of enslaved and free Africans in New York City, New York. It contains the remains of those interred, as well as the archeological resources and artifacts associated with their burials. Prior to the date of this proclamation, the site was administered by the General Services Administration (GSA), and it will be the location of a memorial, to be constructed soon according to a design selected on April 29, 2005, through a competition conducted by the GSA with the participation of the National Park Service (NPS) and other interested parties.

Whereas the African Burial Ground National Monument will promote understanding of related resources, encourage continuing research, and present interpretive opportunities and programs for visitors to better understand and honor the culture and vital contributions of generations of Africans and Americans of African descent to our Nation;

Whereas section 2 of the Act of June 8, 1906 (34 Stat. 225, 16 U.S.C. 431) (the “Antiquities Act”) authorizes the President, in his discretion, to declare by public proclamation historic landmarks, historic and prehistoric structures, and other objects of historic or scientific interest that are situated upon lands owned or controlled by the Government of the United States to be national monuments, and to reserve as a part thereof parcels of land, the limits of which in all cases shall be confined to the smallest area compatible with the proper care and management of the objects to be protected;

Whereas it would be in the public interest to preserve the portion of the African Burial Ground at the corner of Duane and Elk Streets in New York City, and certain lands as necessary for the care and management of the historic and scientific objects therein, as the African Burial Ground National Monument;

NOW, THEREFORE, I, GEORGE W. BUSH, President of the United States of America, by the authority vested in me by section 2 of the Act of June 8, 1906 (34 Stat. 225, 16 U.S.C. 431), do proclaim that there are hereby set apart and reserved as the African Burial Ground National Monument for the purpose of protecting the objects described above, all lands and interests in lands owned or controlled by the Government of the United States with the boundaries described on the accompanying land description, which is attached and forms a part of this proclamation. The Federal land and interests in land reserved consist of approximately 15,000 square feet, which is the smallest area compatible with the proper care and management of the objects to be protected.

All Federal lands and interests of lands within the boundaries of this monument are hereby appropriated and withdrawn from all forms of entry, location, selection, sale, or leasing or other disposition under the public land laws, including, but not limited to, withdrawal from location, entry, and patent under mining laws, and from disposition under all laws relating to mineral and geothermal leasing.

The Secretary of the Interior (Secretary), acting through the NPS, shall administer the national monument consistent with the purposes and provisions of this proclamation and applicable laws and regulations governing management of units of the national park system. For the purposes of preserving, interpreting, and enhancing public understanding and appreciation of the national monument and its meaning to society, the Secretary, acting through the NPS, shall develop an interagency agreement with the Administrator of General Services and, within 3 years of the date of this proclamation, prepare a management plan for the national monument. The management plan shall, among other provisions, set forth the desired relationship of the national monument to other related resources, programs, and organizations in New York City and other locations, provide for maximum public involvement in its development, and identify steps to be taken to provide interpretive opportunities for the entirety of the National Historic Landmark and related sites in New York City. Further, to the extent authorized by law, the Secretary, acting through the NPS, shall promulgate any additional regulations needed for the proper care and management of the objects identified above.

The establishment of this monument is subject to valid existing rights.

Nothing in this proclamation shall be deemed to revoke any existing withdrawal, reservation, or appropriation; however, the national monument shall be the dominant reservation.

Warning is hereby given to all unauthorized persons not to appropriate, injure, destroy, or remove any feature of this monument and not to locate or settle upon any lands thereof.

IN WITNESS WHEREOF, I have hereunto set my hand this twenty-seventh day of February, in the year of our Lord two thousand six, and of the Independence of the United States of America the two hundred and thirtieth.

B

Billing code 3195-01-P

[FR Doc. 06-2023

Filed 3-1-06; 8:45 am]

Billing code 3195-01-C